DEPARTMENT OF HEALTH AND HUMAN SERVICES

Centers for Disease Control and Prevention

[60Day-05-0445)

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 or send comments to Seleda M. Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

School Health Policies and Programs Study 2006—OMB No. 0920-0445—Reinstatement With Changes—National Center for Chronic Disease Prevention and Health Promotion (NCCDPHP), Centers for Disease Control and Prevention, (CDC).

Background and Brief Description

CDC intends to continue to conduct the School Health Policies and Programs Study (SHPPS) in 2006. SHPPS is a national study of school health policies and programs at the state, district, school, and course levels. Much of the information collected will expand upon data gathered from the SHPPS 1994 (OMB No. 0920-0340, expiration date 1/31/95) and 2000 (OMB No. 0920-0445, expiration date 10/31/2002). SHPPS 2006 will assess the characteristics of eight components of school health programs at the elementary, middle/junior, and senior high school levels: Health education, physical education, health services, mental health and social services, food service, school policy and environment, faculty and staff health promotion, and family and community involvement. SHPPS 2006 data will be used to provide measures for 16 Healthy People 2010 national health objectives. No other national source of data exists for these objectives. The data will also have significant implications for policy and program development for school health programs nationwide.

There are no direct costs to the respondents except for their time to participate in the survey.

Estimate of Annualized Burden Table
Respondents | Number of respondents | Number responses per respondent | Average burden per response (in hrs.) | Total burden hours
State Officials (Health Education) | 51 | 1 | 50/60 | 43
State Officials (Physical Education) | 51 | 1 | 1 | 51
State Officials (Health Services) | 51 | 1 | 1 | 51
State Officials (Food Service) | 51 | 1 | 30/60 | 26
State Officials (School Policy and Environment) | 51 | 1 | 45/60 | 38
State Officials (Mental Health and Social Services) | 51 | 1 | 25/60 | 21
State Officials (Faculty and Staff Health Promotion) | 51 | 1 | 20/60 | 17
State Officials (Assist with identifying state-level respondents and with recruiting districts and schools) | 51 | 1 | 1 | 51
District Officials (Health Education) | 652 | 1 | 50/60 | 543
District Officials (Physical Education) | 652 | 1 | 1 | 652
District Officials (Health Services) | 652 | 1 | 1.2 | 782
District Officials (Food Service) | 652 | 1 | 1 | 652
District Officials (School Policy and Environment) | 652 | 1 | 1.5 | 978
District Officials (Mental Health and Social Services) | 652 | 1 | 35/60 | 380
District Officials (Faculty and Staff Health Promotion) | 652 | 1 | 25/60 | 272
District Officials (Assist with identifying district-level respondents and with recruiting schools) | 652 |  | 1 | 652
Principals, secretaries, or designees (Assist with identifying and scheduling school-level respondents) | 1,120 | 1 | 1 | 1120
Health education lead teachers, principals, or designees (Health Education) | 1,120 | 1 | 50/60 | 933
Physical education lead teachers, principals, or designees (Physical Education) | 1,120 | 1 | 1.9 | 2128
School nurses, principals, or designees (Health Services) | 1,120 | 1 | 1.4 | 1,568
Food service managers, principals, or designees (Food Service) | 1,120 | 1 | 1.2 | 1,344
Principals or designee (School Policy and Environment) | 1,120 | 1 | 2.5 | 2,800
Counselors, principals, or designees (Mental Health and Social Services) | 1,120 | 1 | 50/60 | 933
Principals or designees (Faculty and Staff Health Promotion) | 1,120 | 1 | 30/60 | 560
Health education teachers (Classroom Health Education) | 2,480 | 1 | 1.7 | 4,216
Physical education teachers (Classroom Physical Education) | 2,022 | 1 | 1 | 2,022
| 19,086 |  |  | 22,833

Dated: March 18, 2005.
Betsey Dunaway,
Acting Reports Clearance Officer, Centers for Disease Control and Prevention.

[FR Doc. 05-5797 Filed 3-23-05; 8:45 am]

BILLING CODE 4163-18-P